DEPARTMENT OF ENERGY

Federal Energy Regulatory Commission

[Docket Nos. UL25-2-000, UL25-4-000]

Green Mountain Power Corporation; Notice of Pending Jurisdictional Inquiry, and Soliciting Comments, Protests, and Motions To Intervene

On May 30, 2025, the Federal Energy Regulatory Commission (Commission) received requests from the Vermont Department of Environmental Conservation (Vermont DEC) for updated jurisdictional determinations for the unlicensed Middlesex and Gorge Hydroelectric Projects. The projects are located on the Winooski River in Washington and Chittenden Counties, Vermont.

Pursuant to section 23(b)(1) of the Federal Power Act (FPA),¹ a non-federal hydroelectric project must be licensed if it: (a) is located on a navigable water of the United States; (b) occupies lands or reservations of the United States; (c) utilizes surplus water or waterpower from a government dam; ² or (d) is located on a stream over which Congress has Commerce Clause jurisdiction, is constructed or modified on or after August 26, 1935, and affects the interests of interstate or foreign commerce.

¹ 16 U.S.C. 817(1).

² A project that meets condition (a), (b), or (c) is not required to be licensed if it holds a still valid pre-1920 federal permit.

A stream is navigable under section 3(8) of the FPA ³ if: (1) it is currently being used or is suitable for use, or (2) it has been used or was suitable for use in the past, or (3) it could be made suitable for use in the future by reasonable improvements, to transport persons or property in interstate or foreign commerce.⁴ Navigability under section 3(8) of the FPA is not destroyed by obstructions or disuse of many years; personal or private use may be sufficient to demonstrate the availability of the river for commercial navigation; and the seasonal floatation of logs is sufficient to determine that a river is navigable.

³ 16 U.S.C. 796(8).

⁴ See Rochester Gas and Elec. Corp., 344 F.2d 594, 596 (2d Cir. 1965).

Commission staff previously investigated the Commission's jurisdiction over the Middlesex and Gorge Hydroelectric Projects. On August 24, 1979, staff determined that the projects were non-jurisdictional based on staff's finding that there was insufficient evidence that the Winooski River was navigable above Winooski Falls at river mile 9.5 (the Middlesex Project is at river mile 49.3 and the Gorge Project is at river mile 10.6) and that there was no post-1935 construction at either project.⁵ Commission staff's prior finding regarding navigability relied primarily on the lack of evidence of running logs above Winooski Falls. Vermont DEC requests that the Commission reexamine navigability of the Winooski River and look specifically at the river's use or suitability for commercial use. A stream's suitability for commercial use can be demonstrated based on its physical characteristics, as well as its actual use or suitability for use for recreational boating, if this information shows the river is suitable for the simpler types of commercial navigation.⁶

⁵ See Green Mountain Power Corp., 8 FERC ¶ 62,077 (1979).

⁶ See FPL Energy Maine Hydro LLC v. FERC, 287 F.3d 1151, 1158 (D.C. Cir. 2002) (affirming navigability finding based on stream characteristics and test trips by canoe).

In response to Vermont DEC's requests, Commission staff is investigating the jurisdictional status of the Middlesex Hydroelectric Project (UL25-2-000) and the Gorge Hydroelectric Project (UL25-4-000). A copy of Vermont DEC's requests may be viewed on the Commission's website at http://www.ferc.gov/docs-filing/elibrary.asp. Enter the docket number, UL25-2-000 or UL25-4-000. You may also register online at http://www.ferc.gov/docs-filing/esubscription.asp to be notified via email of new filings and issuances related to this or other pending projects. For assistance, call 1-866-208-3676 or email FERCOnlineSupport@ferc.gov, for TTY, call (202) 502-8659.

The Commission is soliciting comments, motions to intervene, and protests in these proceedings. Comments, motions to intervene, and protests must be filed by 45 days from notice or October 6, 2025, by 5:00 p.m. Eastern Time. Anyone may submit comments, a protest, or a motion to intervene in accordance with the requirements of Rules and Practice and Procedure, 18 CFR 385.210, 211, and 214. In determining the appropriate action to take, the Commission will consider all protests or comments filed, but only those who file a motion to intervene in accordance with the Commission's Rule may become a party to the proceedings. Any comments, protests, or motions to intervene must be received on or before the specified comment date.

The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue Rockville, Maryland 20852. The first page of any filing should include Docket Numbers UL25-2-000 and/or UL25-4-000.

For further information, please contact Rebecca Martin at (202) 502-6012 or rebecca.martin@ferc.gov.

Dated: August 20, 2025.
Debbie-Anne A. Reese,
Secretary.

[FR Doc. 2025-16304 Filed 8-25-25; 8:45 am]

BILLING CODE 6717-01-P